DEPARTMENT OF HOMELAND SECURITY

Coast Guard

46 CFR Part 401

[USCG-2011-0328]

RIN 1625-AB70

2012 Rates for Pilotage on the Great Lakes

AGENCY: Coast Guard, DHS.

ACTION: Notice of proposed rulemaking; correction.

SUMMARY: This document corrects the preamble to a proposed rule published in the Federal Register of August 4, 2011, concerning rates for pilotage on the Great Lakes. This correction provides four rows that were missing from Table 36 in the earlier document and corrects a misspelled column heading in Table 37 of that document.

FOR FURTHER INFORMATION CONTACT: For questions on this notice contact Mr. Todd Haviland, Management & Program Analyst, Office of Great Lakes Pilotage, Commandant (CG-5522), Coast Guard; telephone 202-372-2037, e-mail Todd.A.Haviland@uscg.mil, or fax 202-372-1909.

SUPPLEMENTARY INFORMATION:

Correction

In proposed rule FR Doc. 2011-19746, on page 47109 in the issue of August 4, 2011, the second column heading in Table 37 should read “Table Multiplier.” Also on that page, correct Table 36 to read as follows:

Table 36—Proposed Adjustment of Pilotage Rates, Areas in District Two
| 2011 Rate |  | Rate multiplier |  | Adjusted rate for 2012
Area 4—Lake Erie:
6 hour period | $791 | × | 0.964 | = | $762
Docking or undocking | 609 | × | 0.964 | = | 587
Any point on Niagara River below Black Rock Lock | 1,554 | × | 0.964 | = | 1,497
Area 5—Southeast Shoal to Port Huron, MI between any point on or in:
Toledo or any point on Lake Erie W. of Southeast Shoal | 1,412 | × | 0.972 | = | 1,372
Toledo or any point on Lake Erie W. of Southeast Shoal & Southeast Shoal | 2,389 | × | 0.972 | = | 2,231
Toledo or any point on Lake Erie W. of Southeast Shoal & Detroit River | 3,102 | × | 0.972 | = | 3,014
Toledo or any point on Lake Erie W. of Southeast Shoal & Detroit Pilot Boat | 2,389 | × | 0.972 | = | 2,321
Port Huron Change Point & Southeast Shoal (when pilots are not changed at the Detroit Pilot Boat) | 4,162 | × | 0.972 | = | 4,044
Port Huron Change Point & Toledo or any point on Lake Erie W. of Southeast Shoal (when pilots are not changed at the Detroit Pilot Boat) | 4,821 | × | 0.972 | = | 4,684
Port Huron Change Point & Detroit River | 3,126 | × | 0.972 | = | 3,037
Port Huron Change Point & Detroit Pilot Boat | 2,432 | × | 0.972 | = | 2,363
Port Huron Change Point & St. Clair River | 1,729 | × | 0.972 | = | 1,680
St. Clair River | 1,412 | × | 0.972 | = | 1,372
St. Clair River & Southeast Shoal (when pilots are not changed at the Detroit Pilot Boat) | 4,162 | × | 0.972 | = | 4,044
St. Clair River & Detroit River/Detroit Pilot Boat | 3,126 | × | 0.972 | = | 3,037
Detroit, Windsor, or Detroit River | 1,412 | × | 0.972 | = | 1,372
Detroit, Windsor, or Detroit River & Southeast Shoal | 2,389 | × | 0.972 | = | 2,321
Detroit, Windsor, or Detroit River & Toledo or any point on Lake Erie W. of Southeast Shoal | 3,102 | × | 0.972 | = | 3,014
Detroit, Windsor, or Detroit River & St. Clair River | 3,126 | × | 0.972 | = | 3,037
Detroit Pilot Boat & Southeast Shoal | 1,729 | × | 0.972 | = | 1,680
Detroit Pilot Boat & Toledo or any point on Lake Erie W. of Southeast Shoal | 2,389 | × | 0.972 | = | 2,321
Detroit Pilot Boat & St. Clair River | 3,126 | × | 0.972 | = | 3,037

Dated: August 10, 2011.
Kathryn Sinniger,
Chief, Office of Regulations and Administrative Law, United States Coast Guard.

[FR Doc. 2011-20763 Filed 8-15-11; 8:45 am]

BILLING CODE 9110-04-P